DEPARTMENT OF COMMERCE

National Oceanic and Atmospheric Administration

RIN 0648-XA060

Caribbean Fishery Management Council; Public Meetings

AGENCY: National Marine Fisheries Service (NMFS), National Oceanic and Atmospheric Administration (NOAA), Commerce.

ACTION: Notice of public meeting.

SUMMARY: The Caribbean Fishery Management Council's (Council) District Advisory Panels (DAPs) of St. Thomas/St. John, USVI, will hold a one-day meeting in March 25, 2020, to discuss the items contained in the agenda SUPPLEMENTARY INFORMATION.

DATES: The meeting will be held on March 25, 2020, from 9 a.m. to 5 p.m.

ADDRESSES: Meeting address: The meeting will be held at the University of the Virgin Islands Conference room, ACC Building, First Floor, at 2 Brewers Bay, Charlotte Amalie, VI 00802.

Council address: Caribbean Fishery Management Council, 270 Muñoz Rivera Avenue, Suite 401, San Juan, Puerto Rico 00918-1903.

FOR FURTHER INFORMATION CONTACT: Miguel A. Rolón at Caribbean Fishery Management Council, 270 Muñoz Rivera Avenue, Suite 401, San Juan, Puerto Rico 00918-1903; telephone: (787) 766-5926.

SUPPLEMENTARY INFORMATION: The agenda for the meeting is the following:

9 a.m.-9:15 a.m.—Call to Order/Welcome—Miguel A. Rolón

9:15 a.m.-9:30 a.m.—Introduction—Julian Magras

9:30 a.m.-10 a.m.—Ecosystem Components St. Thomas/St. John—Graciela García-Moliner

10 a.m.-10:15 a.m.—Outreach and Education Considerations in Ecosystem-Based Management—Alida Ortiz

10:15 a.m.-10:30 a.m.—Coffee Break

10:30 a.m.-12 noon—Remarks and Presentations by Representatives of Local Agencies

12 noon-1:30 p.m.—Lunch Break

1:30 p.m.-5 p.m.—Discussion and Adoption of Recommendations by the DAPs to the CFMC on Ecosystem Model the St. Thomas/St. John Area

—Other Business

The order of business may be adjusted as necessary to accommodate the completion of agenda items. Other than the start time, interested parties should be aware that discussions may start earlier or later than indicated.

Special Accommodations

These meetings are physically accessible to people with disabilities. For more information or request for sign language interpretation and other auxiliary aids, please contact Mr. Miguel A. Rolón, Executive Director, Caribbean Fishery Management Council, 270 Muñoz Rivera Avenue, Suite 401, San Juan, Puerto Rico 00918-1903, telephone: (787) 766-5926, at least 5 days prior to the meeting date.

Authority: 16 U.S.C. 1801 et seq.

Dated: February 27, 2020.
Tracey L. Thompson,
Acting Deputy Director, Office of Sustainable Fisheries, National Marine Fisheries Service.

[FR Doc. 2020-04336 Filed 3-2-20; 8:45 am]

BILLING CODE 3510-22-P